DEPARTMENT OF TRANSPORTATION

Federal Aviation Administration

Notice Before Waiver With Respect To Land at Hanover County Municipal Airport, Hanover, Virginia

AGENCY: Federal Aviation Administration (FAA), DOT.

ACTION: Notice of intent of waiver with respect to land.

SUMMARY: The FAA is publishing notice of proposed release of 0.589 acres of land at the Hanover County Airport, Hanover, Virginia to the Virginia Department of Transportation for the widening of Sliding Hill Road to allow for two lanes of traffic in each direction. There are no adverse impacts to the Airport and the land is not needed for airport development as shown on the Airport Layout Plan. Fair Market Value of the land has been established and will be provided to the County of Hanover for use on future AIP eligible Airport development. The Airport will benefit from the improvements associated with Sliding Hill Road with the enhanced access to the development on the east side of the airport.

DATES: Comments must be received on or before September 10, 2018.

ADDRESSES: Comments on this application may be mailed or delivered to the FAA at the following address: Matthew J. Thys, Manager, FAA Washington Airports District Office, 23723 Air Freight Lane, Suite 210, Dulles, VA 20166.

In addition, one copy of any comments submitted to the FAA must be mailed or delivered to Richard Henry Rempe, Airport Manager, Hanover County Municipal Airport, at the following address: Richard Henry Rempe, Airport Manager, Hanover County Municipal Airport, P.O. Box 470, Hanover, VA 23069-0470.

FOR FURTHER INFORMATION CONTACT: Mr. Matthew J. Thys, Manager, Washington Airports District Office, 23723 Air Freight Lane, Suite 210, Dulles, VA 20166; telephone (703) 661-1354, fax (703) 661-1370, email Matthew.Thys@faa.gov.

SUPPLEMENTARY INFORMATION: The Wendell H. Ford Aviation investment and Reform Act for the 21st Century, Public Law 10-181 (Apr. 5, 2000; 114 Stat. 61) (AIR 21), as amended, requires that a 30 day public notice must be provided before the Secretary may waive any condition imposed on an interest in surplus property.

Issued in Dulles, Virginia, on August 2, 2018.
Matthew J. Thys,
Manager, Washington Airports District Office, Eastern Region.

[FR Doc. 2018-17102 Filed 8-8-18; 8:45 am]

BILLING CODE 4910-13-P